DEPARTMENT OF COMMERCE

International Trade Administration

[A-580-885]

Phosphor Copper From the Republic of Korea: Postponement of Final Determination of Sales at Less Than Fair Value

AGENCY: Enforcement and Compliance, International Trade Administration, Department of Commerce.

SUMMARY: The Department of Commerce (the Department) is postponing the deadline for issuing the final determination in the less-than-fair-value (LTFV) investigation of phosphor copper from the Republic of Korea (Korea) and is extending the provisional measures from a four-month period to a period of not more than six months.

DATES: Effective October 27, 2016.

FOR FURTHER INFORMATION CONTACT: Cindy Robinson at (202) 482-3797, Antidumping and Countervailing Duty Operations, Enforcement and Compliance, International Trade Administration, U.S. Department of Commerce, 1401 Constitution Avenue NW., Washington, DC 20230.

SUPPLEMENTARY INFORMATION:

On April 5, 2016, the Department of Commerce (the Department) initiated an antidumping duty investigation of imports of phosphor copper from the Republic of Korea (Korea).¹ The period of investigation is January 1, 2015, through December 31, 2015. On October 5, 2016, the Department published its affirmative Preliminary Determination in the LTFV investigation of phosphor copper from Korea.² On October 12 and October 19, 2016, Bongsan Co., Ltd. (Bongsan), the sole mandatory respondent in this investigation, requested that the Department fully extend the deadline for the final determination and extend the application of the provisional measures from a four-month period to a period of not more than six months.³

¹ See Phosphor Copper from the Republic of Korea: Initiation of Less-Than-Fair-Value Investigation, 81 FR 19552 (April 5, 2016).

² See Phosphor Copper from the Republic of Korea: Affirmative Preliminary Determination of Sales at Less Than Fair Value, Negative Preliminary Determination of Critical Circumstances, 81 FR 71049 (October 14, 2016) (Preliminary Determination).

³ See the letter from Bongsan titled, “Phosphor Copper from the Republic of Korea: Request for Extension of Final Determination Deadline,” dated October 12, 2016; see also letter from Bongsan tiled, “Phosphor Copper from the Republic of Korea: Amended Request for Extension of Final Determination Deadline,” dated October 19, 2016.

Postponement of Final Determination

Section 735(a)(2)(B) of the Tariff Act of 1930, as amended (the Act), and 19 CFR 351.210(b)(2)(ii) provide that a final determination may be postponed until not later than 135 days after the date of the publication of the preliminary determination if, in the event of an affirmative preliminary determination, a request for such postponement is made by the exporters or producers who account for a significant proportion of exports of the subject merchandise. Further, 19 CFR 351.210(e)(2) requires that such postponement requests by exporters be accompanied by a request for extension of provisional measures from a four-month period to a period of not more than six months, in accordance with section 733(d) of the Act.

In accordance with section 735(a)(2)(B) of the Act and 19 CFR 351.210(b)(2)(ii), because (1) our preliminary determination was affirmative; (2) the request was made by the exporter/producer who accounts for a significant proportion of exports of the subject merchandise; and (3) no compelling reasons for denial exist, we are postponing the final determination until no later than 135 days after the date of the publication of the Preliminary Determination and extending the provisional measures from a four-month period to a period of not more than six months. Accordingly, we will issue our final determination no later than February 27, 2017.⁴

⁴ Postponing the final determination to 135 days after the publication of the Preliminary Determination would place the deadline on Sunday, February 26, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 735(a)(2)(A) of the Act and 19 CFR 351.210(g).

Dated: October 24, 2016.
Ronald K. Lorentzen,
Acting Assistant Secretary for Enforcement and Compliance.

[FR Doc. 2016-26027 Filed 10-26-16; 8:45 am]

BILLING CODE 3510-DS-P